DEPARTMENT OF DEFENSE

Department of the Navy

Notice of Record of Decision for Undersea Warfare Training Range

AGENCY: Department of the Navy, DOD.

ACTION: Notice of record of decision.

SUMMARY: The United States (U.S.) Department of the Navy (Navy), after carefully weighing the environmental consequences of the installation and operation of the proposed action, announces its decision to develop an undersea warfare training range (USWTR) within the Preferred Alternative Site, the Jacksonville Operating Area (JAX OPAREA). At this time the Navy is implementing only a portion of the proposed action, a decision to move forward with installation of the USWTR, which consists of installing undersea cables and up to 300 nodes over a 500 square-nautical-mile area of the ocean. This location is approximately 50 nm from the northeast coast of Florida. The underwater nodes will be linked by underwater cable to a cable termination facility located ashore on Naval Station Mayport, Florida.

Although both the installation phase and training phase of the USWTR are fully analyzed in the Final Overseas Environmental Impact Statement/Environmental Impact Statement (OEIS/EIS), and informs the decision as to the site selected for installation of the USWTR, this Record of Decision (ROD) implements only a portion of the proposed action by authorizing the installation of the USWTR. Because the USWTR is not anticipated to be ready for operation until at least 2014, the analysis regarding the environmental effects from training on the range will be updated in a future OEIS/EIS document closer in time to the date when the training will begin. The principal type of training activities on the USWTR will be anti-submarine warfare. The decision to implement training on USWTR will be based on the updated analysis of environmental effects in a future OEIS/EIS in conjunction with appropriate coordination and consultation with the National Marine Fisheries Service.

SUPPLEMENTARY INFORMATION: The complete text of the ROD is available on the public web site: http://projects.earthtech.com/uswtr/USWTR_index.htm along with the complete Final OEIS/EIS and accompanying documentation. Single copies of the ROD will be made available upon request by contacting Naval Facilities Engineering Command Atlantic, Attn: USWTR OEIS/EIS Project Manager, Code EV22LL, 6506 Hampton Boulevard, Lafayette River Annex Building A, Norfolk, Virginia 23508-1278.

Dated: August 5, 2009.
A.M. Vallandingham,
Lieutenant Commander, Judge Advocate General's Corps, U.S. Navy, Federal Register Liaison Officer.

[FR Doc. E9-19346 Filed 8-11-09; 8:45 am]

BILLING CODE 3810-FF-P